DEPARTMENT OF TRANSPORTATION

Federal Transit Administration

23 CFR Part 450

RIN 2132-AB45

Statewide and Nonmetropolitan Planning; Metropolitan Transportation Planning

AGENCY: Federal Transit Administration (FTA), U.S. Department of Transportation (DOT).

ACTION: Notification of termination.

SUMMARY: FTA is announcing its decision to terminate its rulemaking titled “Statewide and Nonmetropolitan Planning; Metropolitan Transportation Planning” which would have proposed updates to its transportation planning regulations. FTA formally withdrew the rule from FTA's Spring 2025 Unified Agenda of Regulatory and Deregulatory Actions (“Unified Agenda”).

DATES: This termination was made on February 2, 2026.

ADDRESSES: You may submit comments by any of the following methods:

U.S. Mail: Docket Management Facility, U.S. Department of Transportation, 1200 New Jersey Avenue SE, Room W58-213, Washington, DC 20590.

Hand Delivery or Courier: Docket Management Facility, U.S. Department of Transportation, 1200 New Jersey Avenue SE, Room W58-213, Washington, DC 20590, between 9 a.m. and 5 p.m., Monday through Friday, except Federal Holidays.

Fax: 202-493-2251.

FOR FURTHER INFORMATION CONTACT: Mr. Fleming El-Amin, Office of Planning and Environment, (202) 604-7927, Fleming.El-Amin@dot.gov; or Ms. Nicole Seymour, Office of the Chief Counsel, (202) 924-6339, Nicole.Seymour@dot.gov, Federal Transit Administration, 1200 New Jersey Avenue SE, Washington, DC 20590. Office hours are from 8:00 a.m. to 4:30 p.m., E.T., Monday through Friday, except Federal holidays.

SUPPLEMENTARY INFORMATION:

Electronic Access and Filing

This document may be viewed online through the Federal eRulemaking portal at https://www.regulations.gov using the docket number listed above. The website is available 24 hours each day, 365 days each year. An electronic copy of this document may also be downloaded by accessing the Office of the Federal Register's home page at: https://www.federalregister.gov.

Background

FTA had initiated a rulemaking titled “Statewide and Nonmetropolitan Planning; Metropolitan Transportation Planning” under Regulation Identifier Number (RIN) 2132-AB45, to update the regulations pertaining to FTA's transportation planning requirements in 23 CFR part 450.

Consistent with President Donald J. Trump's commitment to ending unlawful, unnecessary, and onerous regulations, FTA is reviewing its existing regulations and ongoing regulatory activities for alignment with law and Administration priorities. FTA is withdrawing this rulemaking activity because further rulemaking action does not align with agency needs, priorities, and objectives. FTA continues to consider the best means of addressing some or all the issues surrounding its transportation planning regulations, and the scope of any agency actions FTA concludes may be necessary to address these issues.

In addition, all agencies participate in the semi-annual Unified Agenda, which provides a summary description of the regulatory actions that each agency is considering or reviewing. Agencies' agendas are posted on the public website of the Office of Information and Regulatory Affairs, and portions are published in the Federal Register in the spring and fall of each year. The Unified Agenda is often used as a tool to solicit interest and participation from stakeholders. Withdrawal of this rulemaking will allow FTA to better align its entries on the Department's Unified Agenda with the agency's needs, priorities, and objectives.

Accordingly, for these independently sufficient reasons, FTA is terminating the rulemaking associated with RIN 2132-AB45. By terminating the rulemaking, FTA is indicating that it no longer considers this rulemaking to be pending. Should FTA decide at a future date to initiate the same or similar rulemaking, FTA will issue a new NPRM under a new RIN, subject to the requirements of the Administrative Procedure Act, 5 U.S.C. 553.

Issued in Washington, DC, under authority delegated in 49 CFR 1.91(c).
Marcus J. Molinaro,
Administrator.

[FR Doc. 2026-02042 Filed 1-30-26; 8:45 am]

BILLING CODE 4910-57-P